DEPARTMENT OF STATE

[Delegation of Authority No. 314]

Delegation by the Deputy Secretary of State to the Under Secretary for Arms Control and International Security of Authority in Section 1821(b) of the Implementing Recommendations of the 9/11 Commission Act of 2007

By virtue of the authority vested in the Secretary of State, including Section 1 of the State Department Basic Authorities Act, as amended (22 U.S.C. 2651a), and delegated to me by Delegation of Authority 245, I hereby delegate to the Under Secretary for Arms Control and International Security, to the extent authorized by law, the function conferred on the Secretary of State in Section 1821(b) of the Implementing Recommendations of the 9/11 Commission Act of 2007.

Any act, executive order, regulation or procedure subject to, or affected by, this delegation shall be deemed to be such act, executive order, regulation or procedure as amended from time to time.

Notwithstanding this delegation of authority, the Secretary, the Deputy Secretary, or the Under Secretary for Political Affairs may at any time exercise any authority or function delegated by this delegation of authority. The authority of the Under Secretary for Political Affairs is effective as long as Delegation of Authority 280, dated May 2, 2005, is in effect.

This delegation of authority shall be published in the Federal Register.

Dated: June 30, 2008.
John D. Negroponte,
Deputy Secretary of State, Department of State.

[FR Doc. E8-15581 Filed 7-8-08; 8:45 am]

BILLING CODE 4710-10-P